FEDERAL COMMUNICATIONS COMMISSION

Notice of Public Information Collection(s) Being Reviewed by the Federal Communications Commission for Extension Under Delegated Authority

December 22, 2004.

SUMMARY: The Federal Communications Commission, as part of its continuing effort to reduce paperwork burden invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 7, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at (202) 418-2918 or via the Internet at Cathy.Williams@fcc.gov.

SUPPLEMENTARY INFORMATION: OMB Control Number: 3060-1072.

Title: Digital Channel Election Form: Third Round Election, FCC Form 386.

Form Number: FCC Form 386.

Type of Review: Extension of a currently approved collection

Respondents: Business or other for-profit entities; Not-for-profit institutions.

Number of Respondents: 85.

Estimated Time per Response: 2-5 hours.

Frequency of Response: One-time reporting requirement.

Total Annual Burden: 173 hours.

Total Annual Cost: $86,000.

Privacy Impact Assessment: No impact(s).

Needs and Uses: On September 7, 2004, the FCC released the Report and Order, In the Matter of Second Periodic Review of the Commission's Rules and Policies Affecting the Conversion to Digital Television, MB Docket No. 03-15, FCC 04-192, which implements several steps necessary for the continued progress of the conversion of the nation's television system from analog to digital (DTV) technology. The Order established the timing and procedures necessary to determine the post-transition core channels on which digital stations will operate, to be specified in a new Table of Allotments to be issued by the Commission. The Order implements a multi-step channel election process which starts with licensees/permittees filing certain pre-election certifications on FCC Form 381. Television broadcast licensees and permittees that have not received a tentative channel designation by the third round in the channel election process will use FCC Form 386 to make a channel election. Licensees that have received a tentative channel designation for a low VHF channel or a channel subject to international coordination issues may use this form to seek an alternate tentative channel designation.

OMB Control Number: 3060-1073.

Title: Digital Channel Election Form: Second Round Election, FCC Form 385.

Form Number: FCC Form 385.

Type of Review: Extension of a currently approved collection

Respondents: Business or other for-profit entities; Not-for-profit institutions.

Number of Respondents: 25.

Estimated Time per Response: 5 hours.

Frequency of Response: One-time reporting requirement.

Total Annual Burden: 125 hours.

Total Annual Cost: $43,000.

Privacy Impact Assessment: No impact(s).

Needs and Uses: On September 7, 2004, the FCC released the Report and Order, In the Matter of Second Periodic Review of the Commission's Rules and Policies Affecting the Conversion to Digital Television, MB Docket No. 03-15, FCC 04-192, which implements several steps necessary for the continued progress of the conversion of the nation's television system from analog to digital (DTV) technology. The Order established the timing and procedures necessary to determine the post-transition core channels on which digital stations will operate, to be specified in a new Table of Allotments to be issued by the Commission. The Order implements a multi-step channel election process that starts with licensees/permittees filing certain pre-election certifications on FCC Form 381. Licensees/Permittees with only “out-of-core channels”, as well as licensees./permittees electing to be treated like them, will file channel elections in the second round. This Second Round Conflict Decision Form 385 will be used by licensees and permittees that were notified after the Second Round of channel elections that their channel election results in an interference conflict. These licensees and permittees will indicate on FCC Form 385 the decision they make regarding the conflict.

OMB Control Number: 3060-1074.

Title: Digital Channel Election Form: Second Round Election, FCC Form 384.

Form Number: FCC Form 384.

Type of Review: Extension of a currently approved collection

Respondents: Business or other for-profit entities; Not-for-profit institutions.

Number of Respondents: 100.

Estimated Time per Response: 2-5 hours.

Frequency of Response: One-time reporting requirement.

Total Annual Burden: 203 hours.

Total Annual Cost: $101,000.

Privacy Impact Assessment: No impact(s).

Needs and Uses: On September 7, 2004, the FCC released the Report and Order, In the Matter of Second Periodic Review of the Commission's Rules and Policies Affecting the Conversion to Digital Television, MB Docket No. 03-15, FCC 04-192, which implements several steps necessary for the continued progress of the conversion of the nation's television system from analog to digital (DTV) technology. The Order established the timing and procedures necessary to determine the post-transition core channels on which digital stations will operate, to be specified in a new Table of Allotments to be issued by the Commission. The Order implements a multi-step channel election process to be used to determine post-transition DTV channels. FCC Form 384 will be used by full power television broadcast licensees and permittees without currently assigned in-core channel(s), as well as those licensees/permittees that released their only assigned in-core channel(s) in Round One of elections, to make a channel election in Round Two for their final DTV operation.

OMB Control Number: 3060-1075.

Title: Digital Channel Election Form: First Round Election, FCC Form 383.

Form Number: FCC Form 383.

Type of Review: Extension of a currently approved collection

Respondents: Business or other for-profit entities; Not-for-profit institutions.

Number of Respondents: 413.

Estimated Time per Response: 5 hours.

Frequency of Response: One-time reporting requirement.

Total Annual Burden: 2,065 hours.

Total Annual Cost: $702,000.

Privacy Impact Assessment: No impact(s).

Needs and Uses: On September 7, 2004, the FCC released the Report and Order, In the Matter of Second Periodic Review of the Commission's Rules and Policies Affecting the Conversion to Digital Television, MB Docket No. 03-15, FCC 04-192, which implements several steps necessary for the continued progress of the conversion of the nation's television system from analog to digital (DTV) technology. The Order established the timing and procedures necessary to determine the post-transition core channels on which digital stations will operate, to be specified in a new Table of Allotments to be issued by the Commission. The Order implements a multi-step channel election process for selecting post-transition DTV channels. FCC Form 383, First Round Conflict Decision Form, will be used to make a decision concerning interference conflicts by licensees and permittees that were notified after the First Round of channel elections that their channel election results in an interference conflict.

OMB Control Number: 3060-1076.

Title: Digital Channel Election Form: First Round Election, FCC Form 382.

Form Number: FCC Form 382.

Type of Review: Extension of a currently approved collection.

Respondents: Business or other for-profit entities; Not-for-profit institutions.

Number of Respondents: 1,666.

Estimated Time per Response: 2-5 hours.

Frequency of Response: One-time reporting requirement.

Total Annual Burden: 3,383 hours.

Total Annual Cost: $1,686,000.

Privacy Impact Assessment: No impact(s).

Needs and Uses: On September 7, 2004, the FCC released the Report and Order, In the Matter of Second Periodic Review of the Commission's Rules and Policies Affecting the Conversion to Digital Television, MB Docket No. 03-15, FCC 04-192, which implements several steps necessary for the continued progress of the conversion of the nation's television system from analog to digital (DTV) technology. The Order established the timing and procedures necessary to determine the post-transition core channels on which digital stations will operate, to be specified in a new Table of Allotments to be issued by the Commission. The Order implements a multi-step channel election process to be used to select post-transition DTV channels. FCC Form 382 is used by television broadcast licensees and permittees currently assigned at least one in-core channel (i.e., channels 2-51) to make a channel election in Round One of the DTV channel election process for their final DTV operation.

Federal Communications Commission.
William F. Caton,
Deputy Secretary.

[FR Doc. 05-118 Filed 1-4-05; 8:45 am]

BILLING CODE 6712-10-P